DEPARTMENT OF DEFENSE

Office of the Secretary

Submission for OMB Review: Comment Request

ACTION: Notice.

The Department of Defense has submitted to OMB for clearance, the following proposal for collection of information under the provisions of the Paperwork Reduction Act (44 U.S.C. Chapter 35).

Title and OMB Number: Customer Satisfaction Survey—Generic Clearance; OMB Number 0704-0403.

Type of Request: Reinstatement, with change, of a previously approved collection for which approval has expired.

Number of Respondents: 1,246.

Responses Per Respondent: 2.

Annual Responses: 2,492.

Average Burden Per Response: 10 minutes.

Annual Burden Hours: 415.

Need and Uses: The purpose of these surveys is to assess the level of service the Defense Technical Information Center (DTIC) provides to its current customers. The surveys will provide information on the level of overall customer satisfaction, and on customer satisfaction with several attributes of service that impact the level of overall satisfaction. These customer satisfaction surveys are required to implement Executive Order 12862, “Setting Customer Service Standards.” Respondents are DTIC registered users who are components of the Department of Defense, military services, other Federal Government Agencies, U.S. Government contractors, universities involved in federally-funded research, and participants in the Historically Black Colleges and Universities (HBCU) and the small Business Innovative Research (SBIR) programs. The information obtained by these surveys will be used to assist agency senior management in determining agency business policies and processes that should be selected for examination, modification, and reengineering from the customer's perspective. These surveys will also provide statistical and demographic basis for the design of follow-on surveys. Future surveys will be used to assist monitoring of changes in the level of customer satisfaction over time.

Affected Public: Business or Other For-Profit; Not-For-Profit Institutions.

Frequency: On Occasion.

Respondent's Obligation: Voluntary.

OMB Desk Officer: Mr. Edward C. Springer. Written comments and recommendations on the proposed information collection should be sent to Mr. Springer at the Office of Management and Budget, Desk Officer for DoD, Room 10236, New Executive Office Building, Washington, DC 20503.

DOD Clearance Officer: Mr. Robert Cushing. Written requests for copies of the information collection proposal should be sent to Mr. Cushing, WHS/DIOR, 1215 Jefferson Davis Highway, Suite 1204, Arlington, VA 22202-4302.

Dated: June 18, 2001.
Patricia L. Toppings,
Alternate OSD Federal Register Liaison Officer, Department of Defense.

[FR Doc. 01-15790 Filed 6-22-01; 8:45 am]

BILLING CODE 5001-01-M